DEPARTMENT OF COMMERCE

Submission for OMB Review; Comment Request

The Department of Commerce has submitted to the Office of Management and Budget (OMB) for clearance the following proposal for collection of information under the provisions of the Paperwork Reduction Act (44 U.S.C. Chapter 35).

Agency: Technology Administration.

Title: National Medal of Technology.

Form Number(s): None.

OMB Approval Number: 0692-0001.

Type of Request: Regular submission.

Burden Hours: 2,625.

Number of Respondents: 105.

Average Hours Per Response: 25.

Needs and Uses: This information collection is critical for the Nomination Evaluation Committee to determine nomination eligibility and merit for selection of the Nation's leading technological innovators honored by the President of the United States. The National Medal of Technology Nomination Application solicits nominations that recognize an individual or company's extraordinary leadership and innovation in technological achievement. The information is needed in order to comply with Public Law 96-480 and Public Law 105-309.

Affected Public: Individuals or households; business or other for-profit organizations; not-for-profit institutions; and, Federal Government.

Frequency: Annually.

Respondent's Obligation: Voluntary.

OMB Desk Officer: Kristy LaLonde, (202) 395-3087.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Kristy LaLonde, OMB Desk Officer, Fax number (202) 395-5806 or via the Internet at Kristy_L._LaLonde@omb.eop.gov.

Dated: December 21, 2005.
Madeleine Clayton,
Management Analyst, Office of the Chief Information Officer.

[FR Doc. E5-7972 Filed 12-27-05; 8:45 am]

BILLING CODE 3510-18-P